FEDERAL COMMUNICATIONS COMMISSION

47 CFR Part 73

[DA 00-647, MM Docket No. 00-56, RM-9839]

Radio Broadcasting Services; Eastman, GA

AGENCY: Federal Communications Commission.

ACTION: Proposed rule.

SUMMARY: The Commission requests comments on a petition filed by Clyde and Connie Lee Scott, d/b/a EME Communications, seeking the allotment of Channel 221A to Eastman, GA, as the community's second local FM and third local aural service. Channel 221A can be allotted to Eastman in compliance with the Commission's minimum distance separation requirements with a site restriction of 13.1 kms (8.2 miles) west, at coordinates 32-10-20 NL; 83-18-49 WL, to avoid a short-spacing to Station WKKZ, Channel 224C2, Dublin, GA.

DATES: Comments must be filed on or before May 15, 2000, and reply comments on or before May 30, 2000.

ADDRESSES: Federal Communications Commission, 445 12th Street, S.W., Room TW-A325, Washington, DC 20554. In addition to filing comments with the FCC, interested parties should serve the petitioner, or its counsel or consultant, as follows: EME Communications, 293 JC Saunders Road, Moultrie, GA 31768 (Petitioner).

FOR FURTHER INFORMATION CONTACT: Leslie K. Shapiro, Mass Media Bureau, (202) 418-2180.

SUPPLEMENTARY INFORMATION: This is a synopsis of the Commission's Notice of Proposed Rule Making, MM Docket No. 00-56, adopted March 15, 2000, and released March 24, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-8168 Filed 4-3-00; 8:45 am]

BILLING CODE 6712-01-P